DEPARTMENT OF TRANSPORTATION

Federal Aviation Administration

14 CFR Part 71

[Docket No. FAA-2017-0216; Airspace Docket No. 17-ANM-7]

Amendment of Class D and Class E Airspace for the Following Idaho Towns; Lewiston, ID; Pocatello, ID; and Twin Falls, ID

AGENCY: Federal Aviation Administration (FAA), DOT.

ACTION: Final rule, technical amendment, withdrawal.

SUMMARY: This action withdraws the final rule, technical amendment published in the Federal Register on April 26, 2017. In that action, the FAA amended Class E Airspace at Lewiston-Nez Perce County Airport, Lewiston, ID; Pocatello Regional Airport, Pocatello, ID; and Joslin Field-Magic Valley Regional Airport, Twin Falls, ID. The FAA has determined that withdrawal of the final rule, technical amendment is warranted since a change in the geographic coordinates of the airports will affect the charted boundaries of the airspace, and therefore should be considered under the full rulemaking process.

DATES: Effective Date: 0901 UTC, June 7, 2017.

FOR FURTHER INFORMATION CONTACT: Tom Clark, Federal Aviation Administration, Operations Support Group, Western Service Center, 1601 Lind Avenue SW., Renton, WA, 98057; telephone (425) 203-4511.

SUPPLEMENTARY INFORMATION:

History

The FAA published a final rule in the Federal Register (82 FR 19187, April 26, 2017) amending Title 14 Code of Federal Regulations (14 CFR) part 71 amending Class E Airspace designated as an extension to a Class D or Class E surface area at Lewiston-Nez Perce County Airport, Lewiston, ID; Pocatello Regional Airport, Pocatello, ID; and Joslin Field-Magic Valley Regional Airport, Twin Falls, ID, by eliminating the Notice to Airmen (NOTAM) part-time status. Additionally, the action updated the geographic coordinates of these airports and the Pocatello VHF Omnidirectional Radar Range Tactical Air Navigation Aid (VORTAC), the Twin Falls VORTAC, and American Falls Airport listed in the associated Class D and Class E airspace descriptions for Pocatello Regional Airport, and Joslin Field-Magic Valley Regional Airport. The FAA found that by updating the geographic coordinates of the airports and navigation aids, the charted boundaries of the airspace were affected sufficiently to warrant full consideration under the rulemaking process. As a result, the final rule, technical amendment is being withdrawn.

List of Subjects in 14 CFR Part 71

Airspace, Incorporation by reference, Navigation (air).

The Withdrawal

In consideration of the foregoing, the final rule, technical amendment for Docket No. FAA 2017-0216; Airspace Docket No. 17-ANM-7, as published in the Federal Register of April 26, 2017, (82 FR 19187) FR Doc. 2017-08366, is hereby withdrawn.

Authority: 49 U.S.C. 106(f), 106(g), 40103, 40113, 40120; E.O. 10854; 24 FR 9565, 3 CFR, 1959-1963 Comp., p. 389.

Issued in Seattle, Washington, on May 24, 2017.
Sam S.L. Shrimpton,
Acting Group Manager, Operations Support Group, Western Service Center.

[FR Doc. 2017-11474 Filed 6-6-17; 8:45 am]

BILLING CODE 4910-13-P